DEPARTMENT OF COMMERCE

National Oceanic and Atmospheric Administration

RIN 0649-XF688

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, October 2 through Thursday, October 5, 2017.

ADDRESSES: The meeting will take place at the Beau Rivage Resort, located at 875 Beach Boulevard, Biloxi, MS 39530; telephone: (228) 386-7111.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, October 2, 2017; 8:30 a.m.-5:30 p.m.

The Gulf SEDAR Management Committee will review the SEDAR Steering Committee Summary and the SEDAR schedule. The Spiny Lobster Management Committee will review a draft Options Paper of Spiny Lobster Amendment 13. The Joint Coral/Habitat Protection & Restoration Management Committee will review a summary of the Southeast Deep-Sea Coral Initiative and review a Public Hearing draft of Coral Amendment 9. The Sustainable Fisheries Management Committee will review Options Paper—Draft Modifications to the Sea Turtle Release Protocol and Gear for the Reef Fish Fishery and review Options Paper—Framework Action to Require either Descending Devices or Venting Tools on board Vessels Possessing Reef Fish. The Committee will have a discussion on Dead Zone Regarding the RESTORE Act Activities and receive a presentation on Proposed Lionfish Gear and Modification to the List of Allowable Gears. At 4:15 p.m. a CLOSED SESSION of the Full Council will convene to discuss appointments to the Ad Hoc Red Snapper and Grouper-Tilefish Advisory Panel.

Tuesday, October 3, 2017; 8:30 a.m.-5:30 p.m.

The Reef Fish Management Committee will take final action on Framework Action—Greater Amberjack Fishing Year and Recreational Closed Season. The Committee will review draft Amendment 41—Allocation-based Management for Federally Permitted Charter Vessels and Final Action on Referendum Eligibility Requirements; review draft Amendment 42—Reef Fish Management for Headboat Survey Vessels and Final Action Referendum Eligibility Requirements; and, review draft papers for State Management of Recreational Red Snapper. The Committee will discuss the joint SAFMC/GMFMC Management of Yellowtail Snapper. The Reef Fish Management Committee will receive NMFS response regarding referendum requirements for auctions; and discuss for-hire Reef Fish Permit transfers. The Committee will review Grouper-Tilefish IFQ Program 5-Year Review Surveys.

Wednesday, October 4, 2017; 8:30 a.m.-5 p.m.

The Full Council will convene with Call to Order, Announcements, and Introductions; Adoption of Agenda and Approval of Minutes; Induction of New Council Members; Announcement of 2016 Law Enforcement Officer of the Year Award; and review of Exempted Fishing Permit (EFPs) Applications, if any. The Council will receive a presentation from Mississippi Law Enforcement and a presentation on Gulf of Mexico Annual Catch Limits Landings. After lunch the Council will receive public testimony from 12:30 p.m. until 5 p.m. on Agenda Testimony items: Final Action on Framework Action: Greater Amberjack Fishing Year and Recreational Closed Season, Final Action on Referendum Eligibility Requirements for Reef Fish Amendment 41, Final Action on Referendum Eligibility Requirements for Reef Fish Amendment 42; and, hold an open public testimony period regarding any other fishery issues or concern. Anyone wishing to speak during public comment should sign in at the registration station located at the entrance to the meeting room.

Thursday, October 5, 2017; 8:30 a.m.-5 p.m.

Full Council will receive committee reports from Gulf SEDAR, Spiny Lobster, Sustainable Fisheries, Joint Coral/Habitat Protection & Restoration Management Committees, and Reef Fish; and, vote on Exempted Fishing Permit (EFP) applications, if any. The Council will receive updates from the following supporting agencies: South Atlantic Fishery Management Council; Gulf States Marine Fisheries Commission; U.S. Coast Guard; U.S. Fish and Wildlife Service; and, the Department of State. The Council will conduct the election of Chair and Vice-Chair.

Lastly, the Council will discuss any Other Business items.

Meeting Adjourns

The timing and order in which agenda items are addressed may change as required to effectively address the issue. The latest version will be posted on the Council's file server, which can be accessed by going to the Council's Web site at http://www.gulfcouncil.org and clicking on FTP Server under Quick Links. For meeting materials, go to the Gulf Council Web site or Gulf Council file server and select the “Briefing Books/Briefing Book 2017-10” folder. The username and password are both “gulfguest”. The meetings will be webcast over the internet. A link to the webcast is available here, https://register.gotowebinar.com/register/7940774515962140419.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: September 12, 2017.
Tracey L. Thompson,
Acting Deputy Director, Office of Sustainable Fisheries, National Marine Fisheries Service.

[FR Doc. 2017-19644 Filed 9-14-17; 8:45 am]

BILLING CODE 3510-22-P